DEPARTMENT OF AGRICULTURE

Forest Service

Notice of New Fee Sites and Increase in Fees at 3 Existing Fee Sites—Federal Lands Recreation Enhancement Act, (Title VIII, Pub. L. 108-447)

AGENCY: Rio Grande National Forest, USDA Forest Service.

ACTION: Notice of New Fee Sites.

SUMMARY: The Rio Grande National Forest is planning to charge a $50/night fee for the new overnight rentals of Stone Cellar Guard Station, Saguache Bunk House, Alder Creek Guard Station and Fitton Cabin; as well as a $75/night fee for Upper Crossing Guard Station, River Springs Guard Station and 2 cabins at Platoro Reservoir. These cabins have not been available for recreation use prior to this date. Rentals of other cabins on the Rio Grande National Forest have shown that people appreciate and enjoy the availability of historic rental cabins. The Rio Grande National Forest is also proposing that the fees for existing rental cabins be raised from $35/night to $50/night for Brewery Creek Guard Station, Carnero Guard Station, and Elwood Guard Station. Funds from the rental cabins will be used for the continued operation and maintenance of the cabins.

DATES: These cabins will become available for recreation rental after June 1, 2008 and contingent upon completion of certain improvements.

ADDRESSES: Forest Supervisor, Rio Grande National Forest, 1803 West Highway 160, Monte Vista, CO 81144.

FOR FURTHER INFORMATION CONTACT: John Murphy, Recreation Program Coordinator, 719-852-6221.

SUPPLEMENTARY INFORMATION: The Federal Lands Recreation Enhancement Act (Title VII, Pub. L. 108-447) directed the Secretary of Agriculture to publish a six month advance notice in the Federal Register whenever new recreation fee areas are established.

These new fees will be reviewed by a Recreation Resource Advisory Committee prior to a final decision and implementation.

The Rio Grande National Forest currently has three cabin rentals. These rentals are often fully booked throughout their rental season. A business analysis of these rental cabins have shown that people desire having this sort of recreation experience on the Rio Grande National Forest. A market analysis indicates that the $50/per night fee and $75/night fee are both reasonable and acceptable for this sort of unique recreation experience.

People wanting to rent these cabins will need to do so through the National Recreation Reservation Service, at http://www.reserveusa.com or by calling 1-877-444-6777. The National Recreation Reservation Service charges a $7 fee for reservations.

Dated: November 19, 2007.
Dan S. Dallas,
Rio Grande National Forest Supervisor.

[FR Doc. E7-23196 Filed 11-29-07; 8:45 am]

BILLING CODE 3410-11-P